DEPARTMENT OF HEALTH AND HUMAN SERVICES

Centers for Disease Control and Prevention

Draft Guideline for Hand Hygiene in Healthcare Settings

AGENCY: Centers for Disease Control and Prevention (CDC), Department of Health and Human Services (DHHS).

ACTION: Notice of availability and request for public comment.

SUMMARY: This notice is a request for review of and comment on the Draft Guideline for Hand Hygiene in Healthcare Settings, available on the CDC website at www.cdc.gov/ncidod/hip/hhguide.htm. The guideline has been developed for practitioners who provide care for patients and who are responsible for monitoring and preventing infections in healthcare settings. The guideline is intended to replace the hand hygiene recommendations in Guideline for Handwashing and Hospital Environmental Control, 1985.

DATES: Comments on the Draft Guideline for Hand Hygiene in Healthcare Settings must be received in writing on or before December 24, 2001.

FOR FURTHER INFORMATION CONTACT: Requests for copies of the Draft Guideline for Hand Hygiene in Healthcare Settings should be submitted to the Resource Center, Attention: HHGuide, Division of Healthcare Quality Promotion, CDC, Mailstop E-68, 1600 Clifton Rd., NE., Atlanta, Georgia 30333; fax 404 498-1244; e-mail: hhrequests@cdc.gov; or Internet: www.cdc.gov/ncidod/hip/hhguide.htm.

ADDRESSES: Comments on the Draft Guideline for Hand Hygiene in Healthcare Settings should be submitted to the Resource Center, Attention: HHGuide, Division of Healthcare Quality Promotion, CDC, Mailstop E-68, 1600 Clifton Road, NE., Atlanta, Georgia 30333; fax 404 498-1244; e-mail: hhcomments@cdc.gov; or Internet: www.cdc.gov/ncidod/hip/hhguide.htm.

SUPPLEMENTARY INFORMATION: The Draft Guideline for Hand Hygiene in Healthcare Settings is designed to provide healthcare practitioners with (1) a thorough review of evidence dealing with handwashing and hand antisepsis in healthcare settings and (2) specific recommendations to promote improved hand hygiene practices and reduce transmission of pathogenic microorganisms to patients and personnel in healthcare settings. Part I: Review of Scientific Data on Hand Hygiene Practices in Healthcare Settings provides a historical perspective on hand hygiene and reviews in detail the efficacy of various agents used for handwashing and hand antisepsis and factors affecting adherence of healthcare personnel to recommended hand hygiene practices. Part I also discusses evidence documenting transmission of pathogens on hands, the relation between hand hygiene and acquisition of healthcare-acquired pathogens, and methods for improving hand hygiene. Part II: Recommendations provides consensus recommendations of the Healthcare Infection Control Practices Advisory Committee (HICPAC) and other professional societies for the practice of hand hygiene in healthcare settings, including hospitals and ambulatory care, home care, and long-term care settings.

HICPAC was established in 1991 to provide advice and guidance to the Secretary and the Assistant Secretary for Health, DHHS; the Director, CDC; and the Director, National Center for Infectious Diseases, regarding the practice of infection control and strategies for surveillance, prevention, and control of healthcare-associated infections in U.S. healthcare facilities. The committee advises CDC on guidelines and other policy statements regarding prevention of healthcare-associated infections and related adverse events.

Dated: November 5, 2001.
Karen Groux,
Deputy Associate Director for Management and, Operations Centers for Disease Control and Prevention.

[FR Doc. 01-28146 Filed 11-8-01; 8:45 am]

BILLING CODE 4163-18-P